DEPARTMENT OF JUSTICE

Notice of Lodging of Consent Decree Pursuant to the Comprehensive Environmental Response Compensation and Liability Act (“CERCLA”)

Notice is hereby given that a proposed consent decree in United States and State of New Jersey v. Dominick Manzo, et al., C.A. Nos. 97-289 and 99-3937 (MLC) (Consolidated Actions), was lodged with the United States District Court for the District of New Jersey on September 25, 2002 (the “Consent Decree”). The Consent Decree will resolve the liability of 10 third-party generator defendants to the United States, on behalf of the United States Environmental Protection Agency, under sections 106 and 107(a) of the Comprehensive Environmental Response, Compensation, and Liability Act, as amended (“CERCLA”), 42 U.S.C. 9606 and 9607(a), for the recovery of costs incurred by the United States in connection with the Imperial Oil Co., Inc./Champion Chemical Site (“Imperial Site”), located at Orchard Place in Marlboro Township, Monmouth County, New Jersey, and at the Burnt Fly Bog Superfund Site (“Burnt Fly Bog Site”), located on Tyler Lane in Marlboro Township, Monmouth County, New Jersey. The Consent Decree requires 10 generators of hazardous substance to pay $222,953, which will be deposited in equal shares of $111,476.50 into two special accounts to pay for response activities at the Sites.

The Department of Justice will receive, for a period of thirty (30) days from the date of this publication, comments relating to the proposed Consent Decree. Comments should be addressed to the Assistant Attorney General, Environment and Natural Resources Division, P.O. Box 7611, U.S. Department of Justice, Washington, D.C. 20044-7611, and should refer to United States and State of New Jersey v. Dominick Manzo, et al., DOJ Ref. #90-11-2-488A.

The proposed Consent Decree may be examined at the office of the United States Attorney for the District of New Jersey, 402 East State Street, Room 430, Trenton, New Jersey, and the Region II Office of the Environmental Protection Agency, 290 Broadway, New York, New York 10007-1866 (contact Assistant Regional Counsel Kedari Reddy). A copy of the proposed Consent Decree may be obtained by mail from the Consent Decree Library, P.O. Box 7611, Washington, DC. 20044-7611 or by faxing a request to Tonia Fleetwood, fax no. (202) 514-0097, phone confirmation number (202) 514-1547. In requesting a copy, please refer to the referenced case and enclose a check in the amount of $8.50 (25 cents per page reproduction costs) for the Consent Decree, payable to the U.S. Treasury.

Ronald Gluck,
Assistant Section Chief, Environmental Enforcement Section, Environment and Natural Resources Division.

[FR Doc. 02-26507 Filed 10-17-02; 8:45 am]

BILLING CODE 4410-15-M